DEPARTMENT OF HEALTH AND HUMAN SERVICES

Final Effect of Designation of a Class of Employees for Addition to the Special Exposure Cohort

AGENCY: National Institute for Occupational Safety and Health (NIOSH), Centers for Disease Control and Prevention, Department of Health and Human Services (HHS).

ACTION: Notice.

SUMMARY: HHS gives notice concerning the final effect of the HHS decision to designate a class of employees from the Hanford site in Richland, Washington, as an addition to the Special Exposure Cohort (SEC) under the Energy Employees Occupational Illness Compensation Program Act of 2000.

FOR FURTHER INFORMATION CONTACT: Stuart L. Hinnefeld, Director, Division of Compensation Analysis and Support, NIOSH, 1090 Tusculum Avenue, MS C-46, Cincinnati, OH 45226-1938, Telephone 877-222-7570. Information requests can also be submitted by email to DCAS@CDC.GOV.

SUPPLEMENTARY INFORMATION:

Authority: 42 U.S.C. 7384q(b). 42 U.S.C. 7384l(14)(C).

On May 20, 2015, as provided for under 42 U.S.C. 7384l(14)(C), the Secretary of HHS designated the following class of employees as an addition to the SEC:

All employees of Department of Energy contractors and subcontractors (excluding employees of the following Hanford prime contractors during the specified time periods: Battelle Memorial Institute, January 1, 1984, through December 31, 1990; Rockwell Hanford Operations, January 1, 1984, through June 28, 1987; Boeing Computer Services Richland, January 1, 1984, through June 28, 1987; UNC Nuclear Industries, January 1, 1984, through June 28, 1987; Westinghouse Hanford Company, January 1, 1984, through December 31, 1990; and Hanford Environmental Health Foundation, January 1, 1984, through December 31, 1990), who worked at the Hanford site in Richland, Washington, during the period from January 1, 1984, through December 31, 1990, for a number of work days aggregating at least 250 work days, occurring either solely under this employment, or in combination with work days within the parameters established for one or more other classes of employees included in the Special Exposure Cohort.

This designation became effective on June 21, 2015. Therefore, beginning on June 21, 2015, members of this class of employees, defined as reported in this notice, became members of the SEC.

John Howard,
Director, National Institute for Occupational Safety and Health.

[FR Doc. 2015-16277 Filed 6-30-15; 8:45 am]

BILLING CODE 4163-19-P